DEPARTMENT OF INTERIOR

National Park Service

[NPS-WASO-NRSS-SSD-14447; PPWONRADA0, PPMRSNR1Y.NA0000]

Proposed Information Collection; Visibility Valuation Survey

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor, and a person is not required to respond to, a collection of information unless it displays a currently valid OMB control number.

DATES: To ensure that your comments on this IC are considered, we must receive them on or before January 13, 2014.

ADDRESSES: Direct all written comments on this IC to Phadrea Ponds, Information Collection Coordinator, National Park Service, 1201 Oakridge Drive, Fort Collins, CO 80525 (mail); or pponds@nps.gov (email). Please reference Information Collection 1024-COLORIV in the subject line or Bret Meldrum, Chief, Social Science Program, National Park Service, 1201 Oakridge Drive, Fort Collins, CO 80525-5596 (mail); Bret_Meldrum@nps.gov (email); or 970-267-7295 (phone).

FOR FURTHER INFORMATION CONTACT: Susan Johnson, National Park Service Air Resources Division, U.S. National Park Service, 12795 W. Alameda Parkway, P.O. Box 25287, Denver, Colorado 80225 (mail); Susan_Johnson@nps.gov (email); or (303) 987-6694 (phone).

I. Abstract

The Clean Air Act (Sections 169A, 169B, and 110(a)(2)(j) charges the NPS with an “affirmative responsibility to protect air quality related values (including visibility).” The NPS believes that the value of visibility changes should be represented in cost-benefit analyses performed regarding state and federal efforts that may affect visibility (including the Regional Haze Rule, 40 CFR Part 51). Updated estimates of visibility benefits are required because the studies conducted in the 1970s and 1980s do not reflect current baseline visibility conditions in national parks and wilderness areas.

The NPS plans to conduct a nationwide stated preference survey to estimate the value of visibility changes in national parks and wilderness areas. Survey development and pre-testing have already been conducted under a previous IC (OMB Control Number 1024-0255). The purpose of this IC is to conduct the full, national survey.

II. Data

OMB Number: 1024-0255.

Title: Visibility Valuation Survey.

Type of Request: Reinstatement of OMB Control Number 1024-0225 for which the pilot study has been completed.

Affected Public: Individuals or households.

Respondent Obligation: Voluntary.

Estimated Number of Respondents: 6,400 respondents.

Estimated Time and frequency of Response: This is a one-time survey estimated to take 25 minutes per respondent to complete.

Estimated Total Annual Burden Hours: 2,667 hours.

Estimated Reporting and Recordkeeping “Non-Hour Cost” Burden: We have not identified any “non-hour cost” burdens associated with this collection of information.

III. Request for Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: November 6, 2013.
Madonna L. Baucum,
Information Collection Clearance Officer, National Park Service.

[FR Doc. 2013-27092 Filed 11-12-13; 8:45 am]

BILLING CODE 4310-EH-P